DEPARTMENT OF COMMERCE

National Oceanic and Atmospheric Administration

RIN 0648-XY13

Endangered and Threatened Species; Take of Anadromous Fish

AGENCY: National Marine Fisheries Service (NMFS), National Oceanic and Atmospheric Administration (NOAA), Commerce.

ACTION: Applications for two new scientific research permits and one permit renewal.

SUMMARY: Notice is hereby given that NMFS has received three scientific research permit application requests relating to Pacific salmon. The proposed research is intended to increase knowledge of species listed under the Endangered Species Act (ESA) and to help guide management and conservation efforts. The applications may be viewed online at: https://apps.nmfs.noaa.gov/preview/preview_open_for_comment.cfm

DATES: Comments or requests for a public hearing on the applications must be received at the appropriate address or fax number (see ADDRESSES) no later than 5 p.m. Pacific standard time on September 16, 2010.

ADDRESSES: Written comments on the applications should be sent to the Protected Resources Division, NMFS, 1201 NE Lloyd Blvd., Suite 1100, Portland, OR 97232-1274. Comments may also be sent via fax to 503-230-5441 or by e-mail to nmfs.nwr.apps@noaa.gov.

FOR FURTHER INFORMATION CONTACT: Garth Griffin, Portland, OR (ph.: 503-231-2005, Fax: 503-230-5441, e-mail: Garth.Griffin@noaa.gov). Permit application instructions are available from the address above, or online at apps.nmfs.noaa.gov.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall Chinook salmon.

Chum salmon (O. keta): threatened Columbia River (CR).

Steelhead (O. mykiss): threatened LCR, threatened UWR, threatened middle Columbia River (MCR), threatened SR, threatened UCR.

Coho salmon (O. kisutch): threatened LCR, threatened Oregon Coast (OC).

Sockeye salmon (O. nerka): endangered SR.

Authority

Scientific research permits are issued in accordance with section 10(a)(1)(A) of the ESA (16 U.S.C. 1531 et seq.) and regulations governing listed fish and wildlife permits (50 CFR Parts 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1336 - 6R

The Port Blakely Farms (PBF) is seeking to renew its permit to take juvenile UWR Chinook salmon, LCR Chinook salmon, UWR steelhead and LCR steelhead in headwater streams in western Oregon and Washington. The purpose of the research is to evaluate factors limiting fish distribution and water quality in streams owned by PBF. The research would benefit listed salmonids by producing data to be used in conserving and restoring critical habitat. The PBF proposes to capture (using backpack electrofishing and dipnetting), handle, and release juvenile fish. The PBF does not intend to kill any fish being captured but some may die as an unintentional result of the research activities.

Permit 14668

The United States Fish and Wildlife Service (FWS) is seeking a five-year permit to take listed salmonids while conducting the National Wild Fish Health Survey. The purpose of the research is to determine the distribution of the Spring Viremia virus in wild carp. The FWS would capture, handle, and release listed juvenile salmonids (UCR Chinook and steelhead, SR spr/sum and fall Chinook, SR steelhead, SR sockeye, MCR steelhead, LCR Chinook, LCR coho, LCR steelhead, CR chum, UWR Chinook and steelhead, and OC coho) while conducting the research on carp. The research would benefit listed species by helping managers determine the endemic extent of the virus. The FWS would use beach seines and boat and backpack electrofishing equipment to capture juvenile fish. Researchers would avoid contact with adult fish. If listed fish are captured during the research they would be released immediately. The researchers do not expect to kill any listed fish but a small number may die as an unintended result of the research activities.

Permit 15544

The Army Corps of Engineers (Corps) is seeking a two-year permit to take SR spr/sum and fall Chinook, SR steelhead., and SR sockeye while evaluating ways to manage dredged sediment on the Lower Snake River (Asotin to Pasco, WA). As part of the study, they would analyze the prospect of creating shallow water habitat that would benefit listed Snake River salmonids. The research would help the Corps develop a Programmatic Sediment Management Plan and associated Environmental Impact Statement for all four reservoirs on the lower Snake River. The proposed study would identify and characterize existing high-suitability habitats for rearing salmonids and place an emphasis on capturing seasonal variability of specific life-stage habitat requirements. The information gained would help the fisheries management community make decisions regarding the short- and long-term influence of in-water dredge sediment disposal on salmonid. The fish would be captured using boat electrofishing equipment, tapping, and long-lining. Captured juvenile fish would be identified, measured, counted, and released. Adult salmonids would be avoided and the boat electrofisher will be turned off immediately if any are encountered. The researchers do not intend to kill any listed fish, but a small number may die as an inadvertent result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: August 11, 2010.
Angela Somma,
Chief, Endangered Species Division, Office of Protected Resources, National Marine Fisheries Service.

[FR Doc. 2010-20319 Filed 8-16-10; 8:45 am]

BILLING CODE 3510-22-S